DEPARTMENT OF THE TREASURY

Submission for OMB Review; Comment Request

July 23, 2008.

The Department of Treasury will submit the following public information collection requirement(s) to OMB for review and clearance under the Paperwork Reduction Act of 1995, Public Law 104-13 on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 28, 2008 to be assured of consideration.

Community Development Financial Institutions Fund

OMB Number: 1559-0028.

Type of Review: Extension.

Title: The Community Development Financial Institutions Program—Certification Application.

Form: CDFI-0005.

Description: The certification application will be used to determine whether an entity seeking CDFI certification or recertification meets the Fund's requirements for such certification as set forth in 12 CFR 1805.201.

Respondents: Not-for-profit institutions.

Estimated Total Burden Hours: 12,600 hours.

Clearance Officer: Ashanti McCallum, (202) 622-9018, Community Development Financial Institutions Fund, Department of the Treasury, 601 13th Street, NW., Suite 200 South, Washington, DC 20005.

OMB Reviewer: Alexander T. Hunt, (202) 395-7316, Office of Management and Budget, Room 10235, New Executive Office Building, Washington, DC 20503.

Robert Dahl,
Treasury PRA Clearance Officer.

[FR Doc. E8-17350 Filed 7-28-08; 8:45 am]

BILLING CODE 4810-70-P